ENVIRONMENTAL PROTECTION AGENCY

[FRL-7389-8]

Proposed Settlement Under Section 122(g) of the Comprehensive Environmental Response, Compensation, and Liability Act for the Marina Cliffs/Northwestern Barrel Superfund Site, South Milwaukee, Wisconsin

AGENCY: Environmental Protection Agency (“EPA”).

ACTION: Notice; request for public comment on proposed de minimis settlement.

SUMMARY: In accordance with section 122(i)(1) of the Comprehensive Environmental Response, Compensation and Liability Act of 1984, as amended (“CERCLA”), notification is hereby given of a proposed administrative agreement concerning the Marina Cliffs/Northwestern Barrel hazardous waste site located between 5th Avenue and Lake Michigan in South Milwaukee, Wisconsin (the “Site”). EPA proposes to enter into this agreement under the authority of section 122(g) and 107 of CERCLA. Subject to review and comment by the public pursuant to this notice, the agreement has been approved by the United States Department of Justice. The proposed agreement has been executed by the following de minimis parties: Benjamin Moore & Co.; Hydrite Chemical Co.; Pabst Brewing Company; Raytheon Company; and SBC Holdings, Inc. (f/k/a The Stroh Brewery Company).

Under the proposed agreement, the de minimis Settling Parties will pay a total of approximately $261,410.45 which will be used for response costs incurred and to be incurred at the Site. EPA incurred response costs overseeing response activities conducted to mitigate an imminent and substantial endangerment to human health or the environment present or threatened by hazardous substances present at the Site.

For thirty days following the date of publication of this notice, the EPA will receive written comments relating to this proposed agreement. EPA will consider all comments received and may decide not to enter or to require modifications to this proposed agreement if comments disclose facts or considerations which indicate that the proposed agreement is inappropriate, improper or inadequate.

DATES: Comments on the proposed agreement must be received by EPA on or before November 4, 2002.

ADDRESSES: Comments should be addressed to the Docket Clerk, U.S. Environmental Protection Agency, Region 5, 77 West Jackson Boulevard, Chicago, Illinois, 60604-3590, and should refer to: In the Matter of Marina Cliffs/Northwestern Barrel, South Milwaukee, Wisconsin, U.S. EPA Docket No. V-W-02C-706.

FOR FURTHER INFORMATION CONTACT: Thomas J. Krueger, U.S. Environmental Protection Agency, Office of Regional Counsel, C-14J, 77 West Jackson Boulevard, Chicago, Illinois, 60604-3590, (312) 886-0562.

A copy of the proposed administrative settlement agreement may be obtained in person or by mail from the EPA's Region 5 Office of Regional Counsel, 77 West Jackson Boulevard, Chicago, Illinois, 60604-3590. Additional background information relating to the settlement is available for review at the EPA's Region 5 Office of Regional Counsel.

Authority: The Comprehensive Environmental Response, Compensation, and Liability Act, as amended, 42 U.S.C. 9601-9675.

William E. Muno,
Director, Superfund Division, Region 5.

[FR Doc. 02-25301 Filed 10-3-02; 8:45 am]

BILLING CODE 6560-50-P